DEPARTMENT OF TRANSPORTATION

Federal Aviation Administration

Notice of Intent To Rule on Request To Release Airport Property at Enterprise Municipal Airport, Enterprise, Alabama

AGENCY: Federal Aviation Administration (FAA), DOT.

ACTION: Notice.

SUMMARY: The FAA proposes to rule and invites comment on the release of 0.7± acres of airport property at Enterprise Municipal Airport, Enterprise, Alabama, under the provisions of Title 49, U.S.C. Section 47107(h)(2).

DATES: Comments must be received on or before September 15, 2016.

ADDRESSES: Comments on this notice may be mailed or delivered in triplicate to the FAA at the following address: Jackson Airports District Office, Attn: Luke Flowers, Program Manager, 100 West Cross Street, Suite B, Jackson, MS 39208-2307.

In addition, one copy of any comments submitted to the FAA must be mailed or delivered to The Honorable Kenneth W. Boswell, Mayor, City of Enterprise at the following address: Post Office Box 311000, Enterprise, AL 36331-1000.

FOR FURTHER INFORMATION CONTACT: Luke Flowers, Program Manager, Jackson Airports District Office, 100 West Cross Street, Suite B, Jackson, MS 39208-2307, (601) 664-9898. The application may be reviewed in person at this same location.

SUPPLEMENTARY INFORMATION: The FAA invites public comment on the request to release approximately 0.7± acres of airport property at Enterprise Municipal Airport (EDN) under the provisions of 49 U.S.C. 47107(h)(2). The FAA determined that the request to release property at Enterprise Municipal Airport (EDN) submitted by the Sponsor meets the procedural requirements of the Federal Aviation Administration and the release of the property does not and will not impact future aviation needs at the airport. The FAA may approve the request, in whole or in part, no sooner than thirty days after the publication of this notice.

The following is a brief overview of the request:

The Enterprise Municipal Airport (EDN) is proposing the release of airport property totaling 0.7 acres, more or less. This land is to be used by City of Enterprise for construction of a municipal fire station. The release of land is necessary to comply with Federal Aviation Administration Grant Assurances that do not allow federally acquired airport property to be used for non-aviation purposes. The sale of the subject property will result in the land at Enterprise Municipal Airport (EDN) being changed from aeronautical to non-aeronautical use and release the lands from the conditions of the Airport Improvement Program Grant Agreement Grant Assurances. In accordance with 49 U.S.C. 47107(c)(2)(B)(i) and (iii), the airport will receive fair market value for the property, which will be subsequently reinvested in another eligible airport improvement project for general aviation facilities at Enterprise Municipal Airport. The proposed use of this property is compatible with airport operations.

Any person may inspect the request in person at the FAA office listed above under FOR FURTHER INFORMATION CONTACT.

In addition, any person may, upon request, inspect the request, notice and other documents germane to the request in person at the Enterprise Municipal Airport.

Issued in Jackson, Mississippi on August 8, 2016.
Rans D. Black,
Manager, Jackson Airports District Office, Southern Region.

[FR Doc. 2016-19520 Filed 8-15-16; 8:45 am]

BILLING CODE 4910-13-P